DEPARTMENT OF COMMERCE

National Oceanic and Atmospheric Administration

50 CFR Part 622

[Docket No. 160630573-6999-02]

RIN 0648-BG19

Fisheries of the Caribbean, Gulf of Mexico, and South Atlantic; Reef Fish Fishery of the Gulf of Mexico; Red Snapper Management Measures

Correction

In rule document 2016-28905 beginning on page 876971 in the issue of Friday, December 2, 2016, make the following correction:

1. On page 86971, in the first column, after the DATES heading, the second line, “January 3, 2016.” should read “January 3, 2017.”

[FR Doc. C1-2016-28905 Filed 12-6-16; 8:45 am]

BILLING CODE 1301-00-D